SECURITIES AND EXCHANGE COMMISSION

[Release No. 34-60799]

Draft 2010-2015 Strategic Plan for Securities and Exchange Commission

AGENCY: Securities and Exchange Commission.

ACTION: Request for comment.

SUMMARY: The Securities and Exchange Commission (SEC) is providing notice that it is seeking comments on its draft 2010-2015 Strategic Plan. The draft Strategic Plan includes a draft of the SEC's mission, vision, values, strategic goals, planned initiatives, and performance metrics.

DATES: Comments should be received on or before November 16, 2009.

ADDRESSES: Comments may be submitted by any of the following methods:

Electronic Comments

• Send an e-mail to strategicplan@sec.gov.

Paper Comments

• Send paper comments in triplicate to Kenneth A. Johnson, Management and Program Analyst, Securities and Exchange Commission, 100 F Street, NE., Washington, DC 20549-2521.

FOR FURTHER INFORMATION CONTACT: Kenneth A. Johnson, Management and Program Analyst, Office of the Executive Director, at (202) 551-4300, Securities and Exchange Commission, 100 F Street, NE., Washington, DC 20549-2521.

SUPPLEMENTARY INFORMATION: The draft strategic plan is available at the Commission's Web site at http://www.sec.gov/about/secstratplan1015.htm or by contacting Kenneth A. Johnson, Management and Program Analyst, Office of the Executive Director, at (202) 551-4300, Securities and Exchange Commission, 100 F Street, NE., Washington, DC 20549-2521.

Dated: October 8, 2009.
By the Commission.
Elizabeth M. Murphy,
Secretary.

[FR Doc. E9-24713 Filed 10-14-09; 8:45 am]

BILLING CODE 8011-01-P